DEPARTMENT OF ENERGY

Federal Energy Regulation Commission

[Docket No. ER00-2470-000]

Mid-Continent Area Power Pool; Notice of Filing

June 1, 2000.

Take notice that on May 8, 2000, Mid-Continent Area Power Pool, tendered for filing notice of withdrawal of its proposed regional transmission tariff filed with the Commission.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before June 12, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm call 202-208-222 for assistance).

Linwood A. Watson, Jr.,
Acting Secretary.

[FR Doc. 00-14120 Filed 6-5-00; 8:45 am]

BILLING CODE 6717-01-M